Proclamation 8802 of April 20, 2012

Earth Day, 2012

By the President of the United States of America

A Proclamation

On April 22, 1970, millions of Americans came together to celebrate the first Earth Day. Students, teachers, activists, elected officials, and countless others challenged our Nation to confront our most urgent environmental issues and rallied around a single message: the success of future generations depends upon how we act today. As we commemorate Earth Day this year, we reflect on the challenges that remain before us and recommit to the spirit of togetherness and shared responsibility that galvanized a movement 42 years ago.

America rose to meet the call to action in the months and years that followed the first Earth Day. We passed the Clean Air, Clean Water, Endangered Species, and Marine Mammal Protection Acts; founded the Environmental Protection Agency; and ignited a spirit of stewardship that has driven progress for over four decades. Today, our air and water are cleaner, pollution has been greatly reduced, and Americans everywhere are living in a healthier environment.

While we have made remarkable progress in protecting our health and our natural heritage, we know our work is not yet finished. Last July, my Administration proposed the toughest fuel economy standards in our Nation’s history—standards that will save families money at the pump, cut greenhouse gas emissions, and significantly reduce our dependence on oil. In December, we finalized the first-ever national standards to limit mercury and other toxic emissions from power plants, helping safeguard the health of millions. We have taken action to protect and restore our Nation’s precious ecosystems, from the Gulf Coast to the Great Lakes. And we continue to make landmark investments in batteries, biofuels, and renewable energy that are unlocking American innovation and ensuring our Nation stays on the cutting edge. Our country is on the path to economic recovery and renewal, and moving forward, my Administration will continue to fight for a healthy environment every step of the way.

As we work to leave our children a safe, sustainable future, we must also equip them with the tools they need to take on tomorrow’s environmental challenges. Supporting environmental literacy and a strong foundation in science, technology, engineering, and math for every student will help ensure our youth have the skills and knowledge to advance our clean energy economy. Last year, we launched the Department of Education Green Ribbon Schools recognition award to encourage more schools to pursue sustainability, foster health and wellness, and integrate environmental literacy into the curriculum. In the days ahead, we look forward to awarding the first Green Ribbons and recognizing the accomplishments of green schools across our country.

Forty-two years ago, a generation rallied together to protect the earth we would inherit. As we reflect on that historic day of activism and stewardship, let us embrace our commitment to the generations yet to come by leaving them a safe, clean world on which to make their mark.

NOW, THEREFORE, I, BARACK OBAMA, President of the United States of America, by virtue of the authority vested in me by the Constitution and the laws of the United States, do hereby proclaim April 22, 2012, as Earth Day. I encourage all Americans to participate in programs and activities that will protect our environment and contribute to a healthy, sustainable future.

IN WITNESS WHEREOF, I have hereunto set my hand this twentieth day of April, in the year of our Lord two thousand twelve, and of the Independence of the United States of America the two hundred and thirty-sixth.

[FR Doc. 2012-10107

Filed 4-24-12; 8:45 am]

Billing code 3295-F2-P